DEPARTMENT OF STATE

[Public Notice 11756]

Notice of Determinations; Additional Culturally Significant Object Being Imported for Exhibition—Determinations: “Raphael—The Power of Renaissance Images: The Dresden Tapestries and Their Impact” Exhibition

SUMMARY: On May 24, 2022, notice was published on page 31603 of the Federal Register (volume 87, number 100) of determinations pertaining to certain objects to be included in an exhibition entitled “Raphael—The Power of Renaissance Images: The Dresden Tapestries and Their Impact.” Notice is hereby given of the following determinations: I hereby determine that a certain additional object being imported from abroad pursuant to an agreement with its foreign owner or custodian for temporary display in the aforesaid exhibition at the Columbus Museum of Art, Columbus, Ohio, and at possible additional exhibitions or venues yet to be determined, is of cultural significance, and, further, that its temporary exhibition or display within the United States as aforementioned is in the national interest. I have ordered that Public Notice of these determinations be published in the Federal Register.

FOR FURTHER INFORMATION CONTACT: Chi D. Tran, Program Administrator, Office of the Legal Adviser, U.S. Department of State (telephone: 202-632-6471; email: section2459@state.gov). The mailing address is U.S. Department of State, L/PD, 2200 C Street NW (SA-5), Suite 5H03, Washington, DC 20522-0505.

SUPPLEMENTARY INFORMATION: The foregoing determinations were made pursuant to the authority vested in me by the Act of October 19, 1965 (79 Stat. 985; 22 U.S.C. 2459), E.O. 12047 of March 27, 1978, the Foreign Affairs Reform and Restructuring Act of 1998 (112 Stat. 2681, et seq.; 22 U.S.C. 6501 note, et seq.), Delegation of Authority No. 234 of October 1, 1999, Delegation of Authority No. 236-3 of August 28, 2000, and Delegation of Authority No. 523 of December 22, 2021.

Stacy E. White,
Deputy Assistant Secretary for Professional and Cultural Exchanges, Bureau of Educational and Cultural Affairs, Department of State.

[FR Doc. 2022-12324 Filed 6-7-22; 8:45 am]

BILLING CODE 4710-05-P